DEPARTMENT OF THE INTERIOR

Minerals Management Service

Minerals Management Service (MMS) Outer Continental Shelf (OCS), Gulf of Mexico (GOM) Region, Proposed Use of Floating Production, Storage and Offloading Systems on the Central and Western GOM OCS

AGENCY: Minerals Management Service, Interior.

ACTION: Notice of availability of the Draft Environmental Impact Statement (EIS) and locations and dates of public hearings for the EIS on the proposed use of floating production, storage and offloading (FPSO) systems in the central and western GOM OCS.

The MMS prepared a draft EIS on ship-shaped FPSO systems which will be used mostly in deepwater areas of the OCS in the Central and Western GOM. The MMS based the EIS analyses on estimates of the kinds and amounts of activity onshore and offshore that could result from the deployment and use of FPSO systems to produce oil and gas in areas of the Central and Western GOM where the present day oil pipeline system does not yet extend. The FPSO systems will produce the oil in the conventional fashion, but will store it on board rather than direct it into pipelines. The FPSO systems will be unloaded regularly by tankers which will transport the oil to Gulf Coast seaports. You may obtain single copies of the draft EIS from the MMS, Gulf of Mexico OCS Region, Attention: Public Information Office (MS-5034), 1201 Elmwood Park Boulevard, Room 114, New Orleans, Louisiana 70123-2394, or by calling 1-800-200-GULF.

You may look at copies of the draft EIS in the following libraries:

Texas

Abilene Christian University, Margaret and Herman Brown Library, 1600 Campus Court, Abilene;

Alma M. Carpenter Public Library, 330 South Ann, Sourlake;

Aransas Pass Public Library, 110 North Lamont Street, Aransas Pass;

Austin Public Library, 402 West Ninth Street, Austin;

Bay City Public Library, 1900 Fifth Street, Bay City;

Baylor University, 13125 Third Street, Waco;

Brazoria County Library, 410 Brazoport Boulevard, Freeport;

Calhoun County Library, 301 South Ann, Port Lavaca;

Chambers County Library System, 202 Cummings Street, Anahuac;

Comfort Public Library, Seventh & High Streets, Comfort;

Corpus Christi Central Library, 805 Comanche Street, Corpus Christi;

Dallas Public Library, 1513 Young Street, Dallas;

East Texas State University Library, 2600 Neal Street, Commerce;

Houston Public Library, 500 McKinney Street, Houston;

Jackson County Library, 411 North Wells Street, Edna;

Lamar University, Gray Library, Virginia Avenue, Beaumont;

LaRatama Library, 505 Mesquite Street, Corpus Christi;

Liberty Municipal Library, 1710 Sam Houston Avenue, Liberty;

Orange Public Library, 220 North Fifth Street, Orange;

Port Arthur Public Library, 3601 Cultural Center Drive, Port Arthur;

Port Isabel Public Library, 213 Yturria Street, Port Isabel;

R.J. Kleberg Public Library, Fourth and Henrietta, Kingsville;

Reber Memorial Library, 193 North Fourth, Raymondville;

Refugio County Public Library, 815 South Commerce Street, Refugio;

Rice University, Fondren Library, 6100 South Main Street, Houston;

Rockwall County Library, 105 South First Street, Rockwall;

Rosenberg Library, 2310 Sealy Street, Galveston;

Sam Houston Regional Library & Research Center, 1011 Governors Road, Liberty;

Stephen F. Austin State University, Steen Library, Wilson Drive, Nacogdoches;

Texas A & M University, Corpus Christi Library, 630 Ocean Drive, Corpus Christi;

Texas A & M University, Evans Library, Spence and Lubbock Streets, College Station;

Texas Southmost College Library, 1825 May Street, Brownsville;

Texas State Library, 1200 Brazos Street, Austin;

Texas Tech University Library, 18th and Boston Avenue, Lubbock;

University of Houston Library, 4800 Calhoun Boulevard, Houston;

University of Texas at Arlington, Library, 701 South Cooper Street, Arlington;

University of Texas at Austin, Library, 21st and Speedway Streets, Austin;

University of Texas at Brownsville, Oliveria Memorial Library, 80 Fort Brown, Brownsville;

University of Texas at Dallas, McDermott Library, 2601 North Floyd Road, Richardson;

University of Texas at El Paso, Library, Wiggins Road and University Avenue, El Paso;

University of Texas at San Antonio, Library, 6900 North Loop 1604 West, San Antonio;

University of Texas Law School, Tarlton Law Library, 727 East 26th Street, Austin;

University of Texas, LBJ School of Public Affairs Library, 2313 Red River Street, Austin;

Victoria Public Library, 320 North Main, Victoria;

Louisiana

Calcasieu Parish Library, 327 Broad Street, Lake Charles;

Cameron Parish Library, Marshall Street, Cameron;

Grand Isle Branch Library, Highway 1, Grand Isle;

Government Documents Library, Loyola University, 6363 St. Charles Avenue, New Orleans;

Iberville Parish Library, 24605 J. Gerald Berret Boulevard, Plaquemine;

Jefferson Parish Regional Branch Library, 4747 West Napoleon Avenue, Metairie;

Jefferson Parish West Bank Outreach Branch Library, 2751 Manhattan Boulevard, Harvey;

Lafayettte Public Library, 301 W. Congress Street, Lafayette;

Lafitte Branch Library, Route 1, Box 2, Lafitte;

Lafourche Parish Library, 303 West 5th Street, Thibodaux;

Louisiana State University Library, 760 Riverside Road, Baton Rouge;

Louisiana Tech University, Prescott Memorial Library, Everet Street, Ruston;

LUMCON, Library, Star Route 541, Chauvin;

McNeese State University, Luther E. Frazar Memorial Library, Ryan Street, Lake Charles;

New Orleans Public Library, 219 Loyola Avenue, New Orleans;

Nicholls State University, Nicholls State Library, Leighton Drive, Thibodaux;

Plaquemines Parish Library, 203 Highway 11, South Buras;

St. Bernard Parish Library, 1125 East St. Bernard Highway, Chalmette;;

St. Charles Parish Library, 105 Lakewood Drive, Luling;

St. John The Baptist Parish Library, 1334 West Airline Highway, LaPlace;

St. Mary Parish Library, 206 Iberia Street, Franklin;

St. Tammany Parish Library, Covington Branch, 310 West 21st Street, Covington;

St. Tammany Parish Library, Slidell Branch, 555 Robert Boulevard, Slidell;

Terrebonne Parish Library, 424 Roussell Street, Houma;

Tulane University, Howard Tilton Memorial Library, 7001 Freret Street, New Orleans;

University of New Orleans Library, Lakeshore Drive, New Orleans;

University of Southwestern LA, Dupre Library, 302 East St. Mary Boulevard, Lafayette;

Vermilion Parish Library, Abbeville Branch, 200 North Street, Abbeville;

Mississippi

Gulf Coast Research Laboratory, Gunter Library, 703 East Beach Drive, Ocean Springs;

Hancock County Library System, 312 Highway 90, Bay St. Louis;

Harrison County Library, 14th and 21st Avenues, Gulfport;

Jackson George Regional Library System, 3214 Pascagoula Street, Pascagoula;

Alabama

Dauphin Island Sea Lab, Marine Environmental Science Consortium, Library, Bienville Boulevard, Dauphin Island;

Gulf Shores Public Library, Municipal Complex, Route 3, Gulf Shores;

Mobile Public Library, 701 Government Street, Mobile;

Thomas B. Norton Public Library, 221 West 19th Avenue, Gulf Shores;

University of South Alabama, University Boulevard, Mobile;

Montgomery Public Library, 445 South Lawrence Street, Montgomery;

Florida

Bay County Public Library, 25 West Government Street, Panama City;

Charlotte-Glades Regional Library System, 18400 Murdock Circle, Port Charlotte;

Collier County Public Library, 650 Central Avenue, Naples;

Environmental Library, Sarasota County, 7112 Curtis Avenue, Sarasota;

Florida A & M University, Coleman Memorial Library, Martin Luther King Boulevard, Tallahassee;

Florida Northwest Regional Library System, 25 West Government Street, Panama City;

Florida State University, Strozier Library, Call Street and Copeland Avenue, Tallahassee;

Fort Walton Beach Public Library, 105 Miracle Strip Parkway, Fort Walton Beach;

Leon County Public Library, 200 West Park Avenue, Tallahassee;

Marathon Public Library, 3152 Overseas Highway, Marathon;

Monroe County Public Library, 700 Fleming Street, Key West;

Port Charlotte Public Library, 2280 Aaron Street, Port Charlotte;

Selby Public Library, 1001 Boulevard of the Arts, Sarasota;

St. Petersburg Public Library, 3745 Avenue North, St. Petersburg;

Tampa-Hillsborough County Library, Documents Division, 900 North Ashley Drive, Tampa;

University of Florida Library, University Avenue Gainesville;

University of Florida, Holland Law Library, Southwest 25th Street and 2nd Avenue, Gainesville;

West Florida Regional Library, 200 West Gregory Street, Pensacola.

There will be four public hearings held to receive comments on the draft EIS. The hearings will provide us with information that will help in the evaluation of the potential effects of the use of FPSO systems in the Gulf.

August 21, 2000, Adams Mark Hotel, 64 South Water Street, Mobile, Alabama;

August 22, 2000, Radisson Inn New Orleans Airport, 2150 Veterans Boulevard, Kenner, Louisiana;

August 23, 2000, Radisson Hotel and Conference Center, Hobby Airport Houston, 9100 Gulf Freeway, Houston, Texas; and

August 24, 2000, Best Western Hotel, Lake Charles, Lousiana.

If you wish to testify at a hearing, you may register beginning 30 minutes prior to the meeting. Speakers will be limited to 5 minutes. Each hearing will be open for testimony from 2 p.m. to 4 p.m. in the afternoon, and 6 p.m. to 8 p.m. in the evening, and will recess when all speakers have had an opportunity to testify. If there are no additional speakers, we will adjourn the hearing immediately after the recess. Written statements submitted at a hearing will be considered part of the hearing record. If you are unable to attend, you may submit written statements until October 10, 2000. Send written statements to the Regional Director, Gulf of Mexico OCS Region, Minerals Management Service, 1201 Elmwood Park Boulevard, MS-5410, New Orleans, Louisiana 70123-2394.

Our practice is to make comments, including names and home addresses of respondents, available for public review during regular business hours. Individual respondents may request that we withhold their home address from the record, which we will honor to the extent allowable by law. There also may be circumstances in which we would withhold from the record a respondent's identity, as allowable by law. If you wish to withhold your name and/or address, you must state this prominently at the beginning of your comment.

However, we will not consider anonymous comments. We will make all submissions from organizations or businesses, and from individuals identifying themselves as representatives or officials of organizations or businesses, available for public inspection in their entirety.

Dated: August 9, 2000.
Carolita U. Kallaur,
Associate Director for Offshore Minerals Management.

[FR Doc. 00-20689 Filed 8-14-00; 8:45 am]

BILLING CODE 4310-MR-M